DEPARTMENT OF LABOR

Office of the Secretary

Submission for OMB Review: Comment Request

August 5, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Weekly Claims and Extended Benefits Data and Weekly Initial and Continued Weeks Claimed.

OMB Control Number: 1205-0028.

Agency Form Number: ETA-538 and ETA-539.

Affected Public: State Governments.

Total Estimated Number of Respondents: 53.

Total Estimated Annual Burden Hours: 3,675.

Total Estimated Annual Costs Burden (does not include hour costs): $0.

Description: These data are necessary for the determination of the beginning, continuance, or termination of an Extended Benefit (EB) period in any State, which determine the EB trigger rate. Also, data on initial and continued claims are used to help determine economic indicators. For additional information, see related notice published at Volume 74 FR 24039 on May 22, 2009.

Agency: Employment and Training Administration.

Type of Review: Extension without change of a currently approved collection.

Title of Collection: Statement of Expenditures and Financial Adjustment of Federal Funds for Unemployment Compensation for Federal Employees and Ex-Servicemembers.

OMB Control Number: 1205-0162.

Agency Form Number: ETA-191.

Affected Public: State Governments.

Total Estimated Number of Respondents: 53.

Total Estimated Annual Burden Hours: 1,272.

Total Estimated Annual Costs Burden (does not include hour costs): $0.

Description: Federal and military agencies must reimburse the Federal Employees Compensation Account for the amount expended for benefits to former Federal (civilian) employees and ex-servicemembers. The report informs ETA of the amount to bill such agencies. For additional information, see related notice published at Volume 74 FR 14579 on March 31, 2009.

Agency: Employment and Training Administration.

Type of Review: Revision of a currently approved collection.

Title of Collection: Unemployment Insurance Title XII Advances and Voluntary Repayment Process.

OMB Control Number: 1205-0199.

Agency Form Number: N/A.

Affected Public: State Governments.

Total Estimated Number of Respondents: 27.

Total Estimated Annual Burden Hours: 243.

Total Estimated Annual Costs Burden (does not include hour costs): $0.

Description: This information collection's purpose is to maintain a process for State governors for requesting advances and repaying advances through their correspondence with the Secretary of Labor. The report informs ETA of the amount to bill such agencies. For additional information, see related notice published at Volume 74 FR 24041 on May 22, 2009.

Agency: Employment and Training Administration.

Type of Review: Revision of a currently approved collection.

Title of Collection: Plan for Evaluation of the Trade Adjustment Assistance Program.

OMB Control Number: 1205-0460.

Agency Form Number: N/A.

Affected Public: Individuals or households.

Total Estimated Number of Respondents: 1,357.

Total Estimated Annual Burden Hours: 940.

Total Estimated Annual Costs Burden (does not include hour costs): $0.

Description: This data collection is for an evaluation of the Trade Adjustment Assistance (TAA) Program. The evaluation is comprised of an impact analysis using a comparison group methodology. A process is also included to determine what programmatic and administrative features may affect performance. Data collection includes: Baseline and follow-up surveys of TAA participants and comparison group members, site visits to States and local areas, and an Internet/phone survey of local TAA coordinators. bor. The report informs ETA of the amount to bill such agencies. For additional information, see related notice published at Volume 74 FR 14159 on March 30, 2009.

Darrin A. King,
Departmental Clearance Officer.

[FR Doc. E9-19082 Filed 8-7-09; 8:45 am]

BILLING CODE 4510-FW-P